DEPARTMENT OF COMMERCE

International Trade Administration

[A-570-848]

Freshwater Crawfish Tail Meat from the People's Republic of China; Notice of Final Results of Antidumping Duty Administrative Review, and Final Partial Rescission of Antidumping Duty Administrative Review

AGENCY: Import Administration, International Trade Administration, U.S. Department of Commerce.

SUMMARY: On October 12, 2001, the Department of Commerce (the Department) published the preliminary results of its administrative review of the antidumping duty order on freshwater crawfish tail meat from the People's Republic of China (PRC). See Freshwater Crawfish Tail Meat from the People's Republic of China: Notice of Preliminary Results of Antidumping Duty Administrative Review and Preliminary Partial Rescission of Antidumping Duty Administrative Review, 66 FR 52100 (October 12, 2001). The administrative review covers the period September 1, 1999, through August 31, 2000.

Based on our analysis of the comments received, we have made changes to the margin calculations. Therefore, the final results differ from the preliminary results. The final weighted-average dumping margins for the reviewed firms are listed below in the section entitled “Final Results of Review.”

EFFECTIVE DATE: April 22, 2002.

FOR FURTHER INFORMATION CONTACT: Doug Campau or Maureen Flannery; Office of Antidumping/Countervailing Duty Enforcement VII, Import Administration, International Trade Administration, U.S. Department of Commerce, 14th Street and Constitution Avenue, NW, Washington DC 20230; telephone (202) 482-1395 or (202) 482-3020, respectively.

SUPPLEMENTARY INFORMATION:

Applicable Statute

Unless otherwise indicated, all citations to the statute are references to the Tariff Act of 1930, as amended (the Act). In addition, unless otherwise indicated, all citations to the Department's regulations are to the provisions codified at 19 CFR part 351 (2000).

Background

On October 12, 2001, the Department published, in the Federal Register, the preliminary results of the antidumping duty administrative review on freshwater crawfish tail meat from the PRC. See Freshwater Crawfish Tail Meat from the People's Republic of China: Notice of Preliminary Results of Antidumping Duty Administrative Review and Preliminary Partial Rescission of Antidumping Duty Administrative Review, 66 FR 52100 (October 12, 2001). Since the publication of the preliminary results, the following events have occurred. On October 29, 2001, Ningbo Nanlian Frozen Foods Company, Ltd. (Ningbo Nanlian) and Louisiana Packing Company submitted a study on the Spanish crawfish industry published by the Government of Andalucia, Spain. On November 1, 2001, Ningbo Nanlian and Louisiana Packing Company, Fujian Pelagic Fishery Group Co. (Fujian Pelagic), Qingdao Zhengri Seafood Company, Ltd. (Qingdao Zhengri), Yangzhou Lakebest Co. Ltd. (Lakebest), Qingdao Rirong Foodstuff Co., Ltd. (Qingdao Rirong), Yancheng Haiteng Aquatic Products & Foods Co., Ltd. (Haiteng), and Suquian Foreign Trade Co., Ltd. (Suquian FTC), submitted timely information on surrogate values. The Crawfish Processors Alliance, the petitioners, as well as the Louisiana Department of Agriculture & Forestry and Bob Odom, Commissioner, also submitted timely information on proposed surrogate values on November 1, 2001. On November 27, 2001, we received timely case briefs from the following respondents: Lakebest, Qingdao Rirong, Haiteng, and Suqian FTC (collectively, Lakebest et al); Fujian Pelagic, Huaiyin 30, Yancheng Foreign Trade, Ltd. (YFT), and Yancheng Yaou (collectively Fujian Pelagic et al); Ningbo Nanlian and Louisiana Packing Company; and Huaiyin Foreign Trade Corporation (5) (Huaiyin 5), renamed Jiangsu Hilong International Trading Company Ltd., subsequent to the POR (Jiangsu Hilong). We also received comments from petitioners.

On December 4, 2001, we received rebuttal briefs from Lakebest, et al; Ningbo Nanlian and Louisiana Packing Company; and petitioners.

During the week of February 25, 2002, the Department sent a team to Spain to discuss with government and industry officials the study of the Spanish freshwater crawfish industry printed by the Junta de Andalucia, Consejeria de Agricultura y Pesca (Government of Andalucia, Department of Agriculture and Fisheries) (the Spanish Study).

On March 12, 2002, the Department released its reports regarding these meetings to all interested parties. We received comments from parties on March 19, 2002, and rebuttals on March 21, 2002.

Both petitioner and certain respondents submitted untimely new factual information in their surrogate value submissions, in comments on the Department's Spain trip reports, or in their briefs. We rejected this new factual information pursuant to 19 CFR 351.301(b)(2) and (c)(3) and requested that the parties refile their comments on the Department's Spain trip reports, surrogate value submissions, and briefs, which they did on March 21, 2002, April 1, 2002, and April 2, 2002, respectively. On March 21, 2002, April 1, 2002, and April 5, 2002, objections were filed by either petitioner or the respondent party concerning the Department's return of the untimely new factual information. We addressed the comments concerning the Department's decision to reject these submissions in two separate memos to the file: “Memorandum to the File Freshwater Crawfish Tail Meat from The People's Republic of China: Rejection of New Factual Information Submitted By Petitioner”and “Memorandum to the File Freshwater Crawfish Tail Meat from The People's Republic of China: Rejection of New Factual Information Submitted By Ningbo Nanlian” (dated April 10, 2002).

On March 22, 2002, the Department conducted a public hearing on the issues presented by interested parties in their case and rebuttal briefs.

The Department has now completed this review in accordance with section 751 of the Act.

Scope of the Antidumping Duty Order

The product covered by the antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 1605.40.10.90, 0306.19.00.10 and 0306.29.00.00. The HTS subheadings are provided for convenience and Customs purposes only. The written description of the scope of this order is dispositive.

Analysis of Comments Received

All issues raised in the case and rebuttal briefs by parties to this administrative review are addressed in the Issues and Decision Memorandum from Joseph A. Spetrini, Deputy Assistant Secretary for Import Administration, Group III, to Faryar Shirzad, Assistant Secretary for Import Administration: Issues and Decision Memorandum for the Final Results of the Antidumping Duty Administrative Review and Final Partial Rescission of Antidumping Duty Administrative Review of Freshwater Crawfish Tail Meat from the People's Republic of China: September 1, 1999 through August 31, 2000, dated April 10, 2002 (Decision Memo), which is hereby adopted by this notice.

A list of the issues which parties have raised and to which we have responded, all of which are in the Decision Memo, is attached to this notice as an appendix. Parties can find a complete discussion of all issues raised in this review and the corresponding recommendations in this public memorandum which is on file in the Central Records Unit, room B-099 of the main Commerce Building. In addition, a complete version of the Decision Memo can be accessed directly on the Web at http://ia.ita.doc.gov. The paper copy and electronic version of the Decision Memo are identical in content.

Changes Since the Preliminary Results

Based on our analysis of comments received, we have made certain changes in the margin calculations. We have also corrected certain clerical errors from our preliminary results. Finally, for packing materials, we are using updated Indian import statistics for the period April 2000 through January 2001. See the April 10, 2002 memorandum entitled “Packing Material Surrogates Used for the Final Results of the 1999-2000 Administrative Review of Freshwater Crawfish Tail Meat from the People's Republic of China.” For a discussion of the issues and changes made for each company, refer to the Decision Memo.

Partial Rescission of Administrative Review

In our preliminary results, we concluded that YFT did not have any sales to the United States during the period of review, and thus was not entitled to a review under section 751(a) of the Act. For a further discussion of this issue, see the relevant sections of the Decision Memo; see also Memorandum to Barbara E. Tillman through Maureen Flannery from Elfi Blum: Freshwater Crawfish Tail Meat from the People's Republic of China (PRC); Yancheng Foreign Trade, Ltd. (YFT), formerly Yancheng Foreign Trade Corporation (YFTC): Intent to Rescind Administrative Review (September 24, 2001). After reviewing the comments received with respect to YFT, we have concluded that our preliminary determination was appropriate because YFT had no sales to the United States during the POR. Therefore, we are rescinding the administrative review of YFT.

Furthermore, we did not receive any comments regarding our preliminary decision to rescind the review with respect to Anhui Chaohu Daxin Meat Poultry Co, Ltd.; Anhui Provincial Aquatic Co.; Baoluu Waterstuff Co., Ltd.; Baoying Freezing Plant; Baoying County Freezing Plant; Beijing Farenco; Ever Concord; Feidong Freezing Plant; Fubao Aquatic Foodstuff Co., Ltd.; Fujian Hualong Aquatic Trade Development Co. Lianjian Seafood Processing Plant; Fujian Hualong Aquatic Trade Development; Funing County Frozen Food; Guangzhou Xinye Plastic Products; Hengji Trading Co., Ltd.; Hexing Foodstuff Co., Ltd.; Hongze County Laoshan Danxian Freezing Factory; Hongze Lake Green Food Co., Ltd.; Hongze County Aquatic Freezing Factory; Hua Yin; Huai Yin; Huaiyin County Freezing Factory; Huaiyin Foreign Economic Relations and Trade Committee; Huaiyin Foreign Trade Corp. Shunda Branch; Huaiyin Foreign Trade Corporation; Huaiyin Foreign Trading; Huaiyin Luky Trade Corp.; Huaiyin Shunda Economic and Technology Trading Co.; JAS Forwarding; Jiangsu Zhenfeng Group Foodstuff; Jiangsu Zhenfeng Group; Jiangsu Lukang Foodstuffs; Jin Hu Foreign Trading; Jinghu Aquatic Foodstuff Processing Plant; Jinpeng Agriculture and By-Product Development Co.; Laoshan Brother Freezing Plant; Liaoning Limeng Exports & Imports; Neptune International; Panwin Logistics; Qidong Baoluu Aquatic Food Co., Ltd.; Qingdao Shun Hang Forwarding; Qingshan Foodstuff Co., Ltd.; Rich Shipping; Seatrade International, aka Seatrade Enter.; Shanghai Guangxum Trading; Toyo Warehouse, aka TKK Toyo; Weishan Jinmuan Foodstuff; Y & Z International, aka Y & Z International Trading; Yancheng Baolong Biochemical Products, Co., Ltd.; Yancheng Haibao Foods; Mr. Yang Yi Xiang; Yangzhou Foreign Trading; Yiaxian No. 2 Freezing Factory; Yundong Aquatic Products Processing Factory; Yundong Waterstuff Processing Plant; Zegao Daxin Foodstuff Freezing Plant; Zegao Foodstuff Freezing Plant; Zhenfeng Foodstuff Co.; Zhenfeng Group Food Co.; Ocean Harvest and Nantong Delu; Anhui Cereals, Oils & Foodstuffs; Fujian Hualong Aquatic Trade Development Co. Lianjian Seafood Processing Plant; Huaiyin Foreign Trade Corporation (1); Huaiyin Foreign Trade Corporation (3); Mr. Edward Lee; Lianyungang Haiwang Aquatic Products Co., Ltd.; Mr. Lin Zhong Nan; Mr. Ma Guo Zhong; Pacific Coast Fisheries Corp.; Shanghai Zhongjian International Trading; Suyang Shuangyu Foodstuff Co., Ltd.; Mr. Wei Wei, aka Philip Wei; Mr. Wei Zhang, aka Zhang Wei; Weishan Hongfa Lake Foodstuff Co., Ltd., aka Weishan Fongfa Lake Foodstuff; Yancheng Fubao Aquatic Food Co., Ltd.; and Mr. Yang Yi Xiang. Therefore, we are rescinding the review with respect to these companies.

In the preliminary results, the Department determined that Qingdao Zhengri and Yancheng Seafood should be treated as a single entity for purposes of this administrative review. Qingdao Zhengri and Yancheng Seafood's consolidated supplemental response states that Yancheng Seafood negotiates the price with U.S. customers on behalf of Qingdao Zhengri, and that Qingdao Zhengri receives payment for such sales. The sales for which Qingdao Zhengri produced the merchandise account for a significant portion of Qingdao Zhengri/Yancheng Seafood's reported U.S. sales. We also note that in their response to the Department's questionnaire, the total volume and value of sales for both Qingdao Zhengri and Yancheng Seafood were consolidated in Yancheng Seafood's section A response. See Yancheng Seafood's January 22, 2001, response to section A of the Department's questionnaire. Furthermore, the companies submitted a consolidated response to sections C and D of the Department's questionnaire, and to the Department's supplemental questionnaire for sections A, C, and D. See Yancheng Seafood and Qingdao Zhengri's July 23, 2001, response to the Department's supplemental questionnaire. For the reasons cited above, the Department is treating these two companies as a single entity for these final results.

In the preliminary results, the Department erroneously stated that it was preliminarily rescinding the review of Fujian Pelagic. To clarify, the Department has conducted an administrative review of Fujian Pelagic for this POR.

Determination to Apply Facts Available

The Department received no comments on its preliminary determination to apply facts available to Shantou SEZ Yangfeng Marine Products Co. (Yangfeng Marine). Therefore, we have not altered our decision to apply facts available to Yangfeng Marine for these final results of review.

Section 776(a)(2) of the Act provides that if any interested party: (A) withholds information that has been requested by the Department; (B) fails to provide such information in a timely manner or in the form or manner requested; (C) significantly impedes an antidumping investigation; or (D) provides such information but the information cannot be verified, as provided in section 782(i) of the Act, the Department shall, subject to section 782(d) of the Act, use the facts otherwise available in reaching the applicable determination under this title.

Yangfeng Marine failed to respond to sections C and D of the Department's questionnaire. As a result, we were unable to obtain the information necessary to conduct a review. Therefore, in accordance with section 776(a)(2)(A) of the Act, we are applying facts available to Yangfeng Marine. See, e.g., Silicon Metal from the People's Republic of China: Preliminary Results of Antidumping Duty Administrative Review, 63 FR 37850 (July 14, 1998); and Silicon Metal From the People's Republic of China; Final Results of Antidumping Duty Administrative Review, 63 FR 37850 (July 14, 1998). Because Yangfeng Marine failed to provide section C and D questionnaire responses on the record, section 782(d) does not apply. Further, absent these sections, the Department cannot calculate export price or normal value, and thus any remaining information cannot form the basis for this determination under section 782(e). Therefore, in accordance with section 776(a)(2), we are applying facts available to Yangfeng Marine.

As noted above, we have determined that Qingdao Zhengri and Yancheng Seafood should be treated as a single entity. Since Qingdao Zhengri did not allow verification of its portion of the consolidated response, the Department considers the whole of the consolidated response to be unverifiable. Therefore, in accordance with section 776(a)(2)(D) of the Act, we are applying facts available to Qingdao Zhengri/Yancheng Seafood. For a discussion of why we are continuing to apply facts available to Qingdao Zhengri/Yancheng Yaou Seafood (Yancheng Seafood), see the Decision Memo at Comment 18.

Section 776(b) of the Act provides that the Department may apply adverse facts available to a respondent when that respondent fails to cooperate to the best of its ability. As noted above, in the instant administrative review, Yangfeng Marine and Qingdao Zhengri/Yancheng Seafood failed to provide complete and/or verifiable responses. With respect to Yangfeng Marine, this company failed to provide full section C and D questionnaire responses. These responses are necessary for the Department to calculate an accurate margin. Without section C and D information, the record is devoid of information concerning U.S. sales and factors of production. At no time did Yangfeng Marine indicate to the Department that it was having difficulties complying with the Department's requests for information, nor did it seek assistance from the Department. Therefore, we conclude that Yangfeng Marine has failed to cooperate in this review.

With respect to Qingdao Zhengri/Yancheng Seafood, after the Department received a letter from Qingdao Zhengri indicating that it would not submit to verification, the Department issued Qingdao Zhengri/Yancheng Seafood a letter indicating that it would not be possible for the Department to verify only parts of the companies' consolidated response. The letter pointed out that if a company objects to verification, the Department will not conduct verification and may disregard any or all information submitted by the company in favor of the use of the facts available. Qingdao Zhengri/Yancheng Seafood never responded to the Department's letter, and made no subsequent efforts to contact or arrange verification with the Department. Therefore, we determine that these entities did not cooperate by acting to the best of their ability in complying with the Department's requests for information.

We are treating all the above companies, together with all other PRC companies that have not established that they are entitled to separate rates, as a single enterprise subject to government control. Furthermore, we have determined the rate to be applied to this single enterprise is a PRC-wide rate based on adverse facts available, in accordance with section 776(b) of the Act. Section 776(b) of the Act states that adverse facts available may include information derived from the petition, the final determination, a previous administrative review, or other information placed on the record. As adverse facts available, we are using the rate of 223.01 percent for Huaiyin 30, the highest calculated rate in this segment of the proceeding, which is also the highest rate from any segment of the proceeding.

We received documentation from the U.S. Customs service regarding entries of crawfish tail meat made during the POR. On January 11, 2002, we sent letters to Huaiyin 5 and Huaiyin 30, stating that entry documentation indicated entries of merchandise exported by them during the POR that had not been reported by them to the Department, or that had been reported differently than shown on the Customs documentation. These respondents indicated that certain entries of crawfish tail meat during the POR purported to have been exported by respondents were not, in fact, exported by them. See letter to the Department from Huaiyin 5, dated January 18, 2002; letter to the Department from Huaiyin 5, dated January 25, 2002; letter to the Department from Ningbo Nanlian, dated January 25, 2002 (in support of Huaiyin 5); and letter to the Department from Huaiyin 30, dated January 16, 2002. The details of these letters and the identity of the importer(s), which Huaiyin 5 and Huaiyin 30 deny they ever exported to, are proprietary; however, based on the information certified by Ningbo Nanlian, Huaiyin 5, and Huaiyin 30, we conclude that these are entries of subject merchandise from an exporter that does not have a separate rate, and will instruct the Customs Service to liquidate these entries at the PRC-wide rate.

Final Results of Review

We determine that the following weighted-average margins exist for the period September 1, 1999 through August 31, 2000:

Manufacturer/Exporter | Time Period | Margin (percent)
Ningbo Nanlian/ ­Huaiyin5 (a.k.a. Jiangsu Hilong ­International Trading Company, Ltd.) | 9/1/99-8/31/00 | 62.51 percent
Yancheng Haiteng | 9/1/99-8/31/00 | 65.81 percent
Huaiyin 30 | 9/1/99-8/31/00 | 223.01 percent
Fujian Pelagic | 9/1/99-8/31/00 | 174.04 percent
Yangzhou Lakebest | 9/1/99-8/31/00 | 41.93 percent
Suqian FTC | 9/1/99-8/31/00 | 41.41 percent
Qingdao Rirong | 9/1/99-8/31/00 | 9.76 percent
Nantong Shengfa | 9/1/99-8/31/00 | 45.40 percent
PRC-Wide Rate | 9/1/99-8/31/00 | 223.01 percent

Assessment of Antidumping Duties

Upon completion of this administrative review, the Department shall determine, and the U.S. Customs Service shall assess, antidumping duties on all appropriate entries. The Department will issue appraisement instructions directly to the U.S. Customs Service. For assessment purposes, where possible, we calculated importer-specific assessment rates for freshwater crawfish tail meat from the PRC. We divided the total dumping margins (calculated as the difference between normal value and export price or constructed export price) for each exporter/importer by the total quantity of subject merchandise sold by that exporter to that importer during the POR. Upon the completion of this review, we will direct Customs to multiply the resulting quantity-based rates by the weight in kilograms of each entry of the subject merchandise on an importer-specific basis for the POR.

Cash Deposit Requirements

The following deposit requirements will be effective upon publication of these final results for this administrative review for all shipments of freshwater crawfish tail meat from the PRC entered, or withdrawn from warehouse, for consumption on or after the date of publication, as provided by section 751(a)(2)(C) of the Act: (1) For exporters with separate rates listed above, we will establish a per kilogram cash deposit rate which will be equivalent to the company-specific cash deposit established in this review except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 223.01 percent; and (4) for all other non-PRC exporters of the subject merchandise, the cash deposit rate will be the rate applicable to the PRC supplier of that exporter. These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777(i)(1) of the Act.

Dated: April 10, 2002.
Faryar Shirzad,
Assistant Secretaryfor Import Administration.

APPENDIX

List of Issues

Comment 1: Use of Australia Bureau of Agriculture and Resource Economics (ABARE) Statistics or Mulataga Information to Value Live Crawfish

Comment 2: Whether the Spanish Study is a Reliable Source of Live Crawfish Prices and Represents the Best Available Information

Comment 3: Size and Weight of Live Spanish Crawfish

Comment 4: Whether Crawfish Capture in Spain Is Performed with Unbaited Nets

Comment 5: Whether Spanish Crawfish Prices Are Aberrational

Comment 6: Similarity of Spanish GDP to That of China

Comment 7: The Spain Trip Versus the Australia and Mexico Trips

Comment 8: Use of Mexican Data as a Surrogate Value for Whole, Live Crawfish

Comment 9: Comparability of Economies

Comment 10: Suggested Wet-Dry Weight Conversion Factor for Crawfish Scrap, Based on Information from an Indian Chitosan Producer

Comment 11: The Appropriate Factor for Use in Calculating a Wet-Dry Conversion Factor

Comment 12: Suggested Wet-Dry Weight Conversion Ratio of 50 Percent for Crawfish Scrap

Comment 13: Incorporation of a Wet-Dry Weight Conversion Factor for Scrap for Yangzhou Lakebest (Lakebest)

Comment 14: Suqian's Wet-Dry Conversion

Comment 15: Suqian's and Yancheng Haiteng's Coal Freight Expense

Comment 16: Rescission of Review for Yancheng Foreign Trade, Ltd. (YFT)

Comment 17: The Department's Refusal to Review Certain Sales of Huaiyin Foreign Trade Corporation (30) (Huaiyin 30)

Comment 18: Whether the Department Improperly Determined that Fujian Pelagic and Pacific Coast are not Affiliated Parties

Comment 19: Whether the Department Improperly Applied Facts Available to Yancheng Yaou

Comment 20: Single Rate for Huaiyin 5 and Ningbo Nanlian

Comment 21: Yancheng Haiteng's Indirect Selling Expenses Ratio

Comment 22: Yancheng Haiteng's Marine Insurance Factor

Comment 23: Certain Domestic Parties' Status as Interested Parties

Application of the Continued Dumping and Subsidy Offset Act of 2000 (Byrd Amendment)

[FR Doc. 02-9802 Filed 4-19-02; 8:45 am]

BILLING CODE 3510-DS-S